FEDERAL COMMUNICATIONS COMMISSION

[CCB/CPD File No. 98-30; DA 04-1903]

Notice of Dismissal of Petition for Declaratory Ruling on Interexchange Carrier “Rounding-Up” Practices

AGENCY: Federal Communications Commission.

ACTION: Notice.

SUMMARY: This document is a notification of dismissal of a petition for declaratory ruling in CCB/CPD File No. 98-30. The Commission on April 2, 2004, issued a Public Notice, DA 04-943, 69 FR 23756, April 30, 2004, asking parties to update the record regarding a petition for declaratory ruling on interexchange carrier “rounding-up” practices filed by Connie L. Smith on March 30, 1998. The parties that previously filed the petition and comments to the related Public Notice did not respond to the Commission's request to refresh the record in this proceeding and expressed no intent to pursue the petition. As a result, any interested parties are hereby notified that the petition was dismissed on June 28, 2004.

FOR FURTHER INFORMATION CONTACT: Steve Morris, Wireline Competition Bureau, Pricing Policy Division, (202) 418-2858.

SUPPLEMENTARY INFORMATION: On April 2, 2004, the Wireline Competition Bureau issued a Public Notice requesting interested parties to the petition for declaratory ruling filed by Connie L. Smith (Petitioner) on March 30, 1998, CCB/CPD File No. 98-30, to file a supplemental notice indicating those issues that the parties still wish to be considered, 69 FR 23756, April 30, 2004. The notice was issued because the district court's dismissal of the underlying litigation, and the Petitioner's apparent decision not to pursue the matter before the Commission after the court's decision, may have left no outstanding issues for the Commission to address.

The Public Notice further stated that the Commission would deem such petition withdrawn and would dismiss it unless parties indicated an intent to pursue the issues delineated in the petition for declaratory ruling no later than August 19, 2004. The notice was published in the Federal Register on April 30, 2004, and comments were due on or before June 1, 2004, with reply comments due on or before June 14, 2004, 69 FR 23756, April 30, 2004. The Bureau did not receive any filings that responded to the notice within this time frame from parties that had previously filed the petition for declaratory ruling or submitted comments in response to the related Public Notice. As a result, the Commission on June 28, 2004, issued a Public Notice of Dismissal of Petition for Declaratory Ruling, DA 04-1903, in CCB/CPD File No. 98-30.

Federal Communications Commission.
William F. Maher, Jr.,
Chief, Wireline Competition Bureau.

[FR Doc. 04-16465 Filed 7-19-04; 8:45 am]

BILLING CODE 6712-01-P